DEPARTMENT OF THE INTERIOR

Bureau of Land Management

[OR-010-1020-DF; HAG 08-0090]

Southeast Oregon Resource Advisory Council: Meeting

Pursuant to the Federal Advisory Committee Act, the Department of the Interior BLM announces the following advisory committee meeting:

Name: Southeast Oregon Resource Advisory Council (SEORAC).

Time and Date: 8 a.m. May 8, 2008; 8 a.m. May 9, 2008.

Place: BLM, Lakeview District Office, 1301 South G Street, Lakeview, Oregon 97630.

Status: Open to the public.

Matters To Be Considered: The SEORAC will consider land allocation designations at the Sand Dunes east of Christmas Valley, Sagebrush Cooperative progress, Southeast Oregon Geographic Information Systems atlas status, Climate Change initiatives, and transportation planning strategies for lands administered by the Oregon and Washington BLM and Fremont-Winema National Forests. Council members will also hear updates from designated federal officials, provide orientation to new members, review the new Charter and Standard Operating Procedures, tour North Lake County, give liaison and subgroup reports, establish meeting priorities and develop agenda items for the next meeting. Any other matters that may reasonably come before the SEORAC may also be addressed.

The public is welcome to attend all portions of the meeting and may contribute during the public comment period at 11:30 a.m. on May 9, 2008. Those who verbally address the SEORAC during the public comment period are asked to provide a written statement of their comments or presentation. Unless otherwise approved by the SEORAC chair, the public comment period will last no longer than 30 minutes, and each speaker may address the SEORAC for a maximum of 5 minutes.

For Further Information Contact: Program information, meeting records and a roster of council members may be obtained from Scott Stoffel, public affairs specialist, 1301 South G Street, Lakeview, Oregon 97630; (541) 947-6237. The meeting agenda will be posted at http://www.blm.gov/or/rac/seorrac-minutes.php when available.

Should you require reasonable accommodation, please contact the BLM Lakeview District at (541) 947-2177 as soon as possible.

Shirley Gammon,
District Manager.

[FR Doc. E8-8100 Filed 4-15-08; 8:45 am]

BILLING CODE 4310-33-P